DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Time and Date: February 28, 2013, 9:00 a.m.-2:45 p.m. EST. March 1, 2013, 9:00 a.m.-11:30 a.m. EST.

Place: U.S. Department of Health and Human Services, Hubert H. Humphrey Building, Rm. 705-A, 200 Independence Avenue SW., Washington, DC 20201.

Status: Open.

Purpose: At this meeting the Committee will hear presentations and hold discussions on several health data policy topics. On the morning of the first day, the Committee will hear updates from the Department (HHS), the Centers for Medicare and Medicaid Services (CMS), the Office of the National Coordinator (ONC), and the Office of Civil Rights (OCR). The Committee will consider plans for 2013 activities and hear from newly appointed Committee members as part of the overview. In preparation for 2013 the Committee will discuss how to maintain the dynamics of working across Subcommittees, as well as how to continue development of its key themes.

In the afternoon, Subcommittee Co-chairs will brief the Committee on plans for a hearing organized by the Population Health Subcommittee to explore aspects of the Community as a Learning Health System. Committee members will consider ways to implement components of the graphic on the Influences on the Population's Health, in the Shaping a Health Statistics Vision for the 21st Century report. The Co-chairs for the Privacy, Confidentiality and Security Subcommittee will brief the Committee about an upcoming hearing to obtain input about implementing health data stewardship, and the Standards and Quality Subcommittees will also provide updates on plans and activities.

On the morning of the second day, the Committee will continue to discuss ways to promote alignment throughout the Committee to enhance its effectiveness, focus on its themes, and utilize expertise of the NCVHS Working Group on HHS Data Access and Use. Once the full Committee adjourns, the NCVHS's Working Group on HHS Data Access and Use will convene to discuss best practices and suggestions to further the dissemination and use of open HHS data, and summarize future plans of the Working Group. Further information will be provided on the NCVHS Web site at http://www.ncvhs.hhs.gov/.

The times shown above are for the full Committee meeting. Subcommittee breakout sessions are scheduled for late in the afternoon on the first day. Agendas for these breakout sessions will be posted on the NCVHS Web site (URL below) when available.

Contact Person for More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: January 31, 2013.
James Scanlon,
Deputy Assistant Secretary for Planning and Evaluation, Office of the Assistant Secretary for Planning and Evaluation.

[FR Doc. 2013-02830 Filed 2-7-13; 8:45 am]

BILLING CODE 4151-05-P